DEPARTMENT OF TRANSPORTATION

Federal Aviation Administration

Public Notice for Waiver of Aeronautical Land-Use Assurance

AGENCY: Federal Aviation Administration (FAA), DOT.

ACTION: Notice of intent of waiver with respect to land; Chicago Executive Airport, Wheeling, IL.

SUMMARY: The FAA is considering a proposal to change a portion of airport land from aeronautical use to non-aeronautical use and to authorize the sale of the airport property located at Chicago Executive Airport, Wheeling, IL. The Parcels are now considered excess land not beneficial for future airport use. Proceeds from the sale of the land will be used for future airport improvement projects. This notice announces that the FAA is considering the release of the subject airport property at Chicago Executive Airport, from all federal land covenants. Approval does not constitute a commitment by the FAA to financially assist in disposal of the subject airport property nor a determination that all measures covered by the program are eligible for grant-in-aid funding from the FAA.

DATES: Comments must be received on or before March 15, 2013.

FOR FURTHER INFORMATION CONTACT: Gary D. Wilson, Program Manager, 2300 East Devon Avenue, Des Plaines, IL 60018. Telephone Number 847-294-7631/FAX Number 847-294-7046. Documents reflecting this FAA action may be reviewed at this same location by appointment or at the Chicago Executive Airport, 1020 Plant Road, Wheeling, Illinois 60093.

SUPPLEMENTARY INFORMATION: In accordance with section 47107(h) of Title 49, United States Code, this notice is required to be published in the Federal Register 30 days before modifying the land-use assurance that requires the property to be used for an aeronautical purpose. The proposal consists of Parcels 56, 58, 59, 88, 90, 107, 108, 109, 110, and 111, totaling 5.28 acres located west of the airport. The parcels were purchased with Federal funds for the relocation of Wolf Road around Runway 16. Following is a legal description of the properties being released located in Cook County, Illinois, and described as follows:

Parcels 58, 59 and 111

Part of the East 580 feet of the North half of the Southeast Quarter of the Northeast Quarter of Section 14, and part of Lot 13 in J.R. Willens Wheeling Estates, a subdivision in said North half recorded as Document No. 17012886 all in Township 42 North, Range 11, East of the third Principal Meridian Cook, Illinois described as follows:

Beginning at the Southwest corner of said Lot 13; thence North 00 Degrees 03 Minutes 47 Seconds West along the West line of said Lot 13, a distance of 150.65 feet to the South right of line of Debra Lane as dedicated by said J.R. Willen Wheeling Estates; thence South 89 Degrees 56 Minutes 17 Seconds East along said South line, a distance of 89.18 feet to a point on a non tangent curve; thence Southerly along a curve concave East having a radius of 1989.86 feet and a chord bearing of South 20 Degrees 45 Minutes 28 Seconds East, an ARC distance of 63.74 feet; thence South 21 Degrees 40 Minutes 26 Seconds East, a distance of 270.83 feet; thence South 31 Degrees 12 Minutes 26 Seconds West, a distance of 18.87 feet to the North line of Cindy Lane as dedicated by said J.R. Willens Wheeling Estates; thence North 89 Degrees 56 Minutes 17 Seconds West along said North line a distance of 68.94 feet to the West line of said East 590 feet; thence North 00 Degrees 04 Minutes 4.28 seconds West along said West line, a distance of 176.65 feet to the Southeast corner of said Lot 13; thence North 89 Degrees 56 Minutes 17 Seconds West along the South line of said Lot 13, a distance of 132.68 feet to the place of beginning.

Parcels 88 and 90

Part of Lots 9-12. Both inclusive in Wolf Road Estates, a subdivision of the North 495.92 feet of the South ½ of the Northeast Quarter of the Northeast Quarter of Section 14, Township 42 North, Range 11 East of the Third Principal Meridian Recorded July 8, 1954 as Document No. 15954435 in Cook County, Illinois and that part of said South ½ described as follows:

Beginning at the Southwest corner of said Lot 12; thence North 00 Degrees 09 Minute 20 Seconds West along the West line of said Lots 9-12. A distance of 462.64 feet to the South Right of Way line of Kerry Lane as dedicated by said Wolf Road Estates; thence South 89 Degrees 59 Minutes 35 Seconds East along said South line, a distance of 75.70 feet; thence South 37 Degrees 26 Minutes 44 Seconds East, a distance of 50.48 feet to a point on a non tangent curve; thence Southerly along a curve concave Easterly having a radius of 1989.86 feet and a chord bearing of South 10 Degrees 12 Minutes 58 Seconds East, an ARC distance of 598.51 feet to the North Right of Way line of Debra Lane as dedicated by J.R. Willens Wheeling Estates a subdivision in the North half of the Southeast Quarter of the Northeast Quarter of said Section 14 recorded as Document No. 17012886; thence North 89 Degrees 56 Minutes 17 Seconds West along said Debra Lane, A distance of 682.70 feet to the West line of said Northeast Quarter of the Northeast Quarter; thence North 00 Degrees 09 Minutes 01 Second West along said West line. A distance of 163.57 feet to the South line of said Wolf Road Estates; thence South 89 Degrees 59 Minutes 35 Seconds East along the South line of Wolf Road Estates. A distance of 472.24 feet to the place of beginning.

Parcels 56, 107, 108, 109, and 110

Part of Lots 9-12, both inclusive in Wolf Road Estates, a subdivision of the North 495.92 feet of the South ½ of the Northeast Quarter of the Northeast Quarter of Section 14, Township 42 North, Range 11 East of the Third Principle Meridian recorded July 8, 1954 as Document No. 15954435 in Cook County, Illinois and that part of said South ½ described as follows:

Beginning at the Southwest corner of said Lot 12; thence North 00 Degrees 09 Minutes 20 Seconds West along the West line of said Lots 9-12, a distance of 462.64 feet to the South Right of Way line of Kerry Lane as dedicated by said Wolf Road Estates; thence South 89 Degrees 59 Minutes 35 Seconds East along said South line, a distance of 75.70 feet; thence South 37 Degrees 26 Minutes 44 Seconds East, a distance of 50.48 feet to a point on a non tangent curve; thence Southerly along a curve concave Easterly having a radius of 1989.86 feet and a chord bearing of South 10 Degrees 12 Minutes 58 Seconds East, an ARC distance of 598.51 feet to the North Right of Way line of Debra Lane as dedicated by J.R. Willens Wheeling Estates, a subdivision in the North half of the Southeast Quarter of the Northeast Quarter of said Section 14 recorded as Document No. 17012886; thence North 89 Degrees 56 Minutes 17 Seconds West along said Debra Lane, a distance of 682.70 feet to the West line of said Northeast Quarter of the Northeast Quarter; thence North 00 Degrees 09 Minutes 01 Seconds West along said West line, a distance of 163.57 feet to the South line of said Wolf Road Estates, a distance of 472.24 feet to the place of beginning. Said parcels contain 5.28 acres, more or less.

Issued in Des Plaines, Illinois on, February 5, 2013.
James G. Keefer,
Manager, Chicago Airports District Office, FAA, Great Lakes Region.

[FR Doc. 2013-03334 Filed 2-12-13; 8:45 am]

BILLING CODE 4910-13-P